DEPARTMENT OF TRANSPORTATION

Federal Aviation Administration

14 CFR Part 71

[Docket No. FAA-2021-0940; Airspace Docket No. 21-ASO-12]

RIN 2120-AA66

Proposed Amendment and Removal of Area Navigation (RNAV) Routes; South-Central FL Metroplex Project.

AGENCY: Federal Aviation Administration (FAA), DOT.

ACTION: Notice of proposed rulemaking (NPRM).

SUMMARY: This action proposes to amend 11 low altitude United States Area Navigation (RNAV) T-routes, and remove 1 T-route, in support of the South-Central FL Metroplex Project. The proposed route changes would expand the availability of RNAV routing in support of transitioning the National Airspace System (NAS) from ground-based to satellite-based navigation.

DATES: Comments must be received on or before December 23, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0940; Airspace Docket No. 21-ASO-12 at the beginning of your comments. You may also submit comments through the internet at https://www.regulations.gov. FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the south Florida United States and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0940; Airspace Docket No. 21-ASO-12) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0940; Airspace Docket No. 21-ASO-12.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/. You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

List of Acronyms

For reference, the following acronyms are used in this NPRM:

IFR—Instrument Flight Rules

NAVAID—Navigational Aid

RNAV—Area Navigation

VOR—VHF Omnidirectional Range

VOR/DME—VHF Omnidirectional Range/Distance Measuring Equipment

VORTAC—VHF Omnidirectional Range/Tactical Air Navigation

WP—RNAV Waypoint

The Proposal

The FAA is proposing an amendment to 14 CFR part 71 to modify 11 low altitude RNAV T-routes, and remove one T-route, in support of the South-Central FL Metroplex Project.

T-207: T-207 currently extends between the Ormond Beach, FL, (OMN) VORTAC and the Waycross, GA, (AYS) VORTAC. This action proposes to realign T-207 by moving the starting point from the Ormond Beach VORTAC to the FOXAM, FL, waypoint (WP), which is approximately 15 nautical miles (NM) north of the Ormond Beach VORTAC. The CARRA, FL, and the MONIA, FL, Fixes would be removed from the route, and the segments between the CARRA Fix and the Waycross, GA, (AYS) VORTAC would also be removed. Instead, T-207 would begin at the FOXAM, FL, WP, then proceed to the MMKAY, FL WP, then to a new end point at the WALEE, FL, WP (located east of the Gators, FL, (GNV) VORTAC).

T-208: T-208 currently extends between the WALEE, FL, WP, and the SHANC, FL, WP. This action would remove the WALEE, FL, and the MMKAY, FL, WPs from the route. The SIROC, GA, WP would be added as the new start point of the route. The SAHND, FL, WP would be added between the SIROC, GA, and the FOXAM, FL, WPs. After the FOXAM, FL, WP, T-208 would proceed to the SHANC, FL, Fix, as currently depicted on the IFR Low Altitude Chart.

T-210: T-210 currently extends between the MARQO, FL, WP, and the VARZE, FL, WP. The MARQO, FL, WP, and the BRADO, FL, Fix would be removed from the route. The start point of the route would be moved to the HADDE, FL, Fix, which is approximately 35 NM west of the MARQO, FL, WP. The MISSM, FL, WP would be added between the HADDE, FL, Fix and the OHLEE, FL, WP. After the OHLEE, FL, WP, the route would proceed to the MMKAY, FL, WP, and then southward to the VARZE, FL, WP, as currently charted.

T-336: T-336 currently extends between the TROYR, FL, WP, and the WIXED, FL, WP. The FAA proposes to amend the route by adding the FUTSY, FL, WP, between the TROYR, FL, and OMMNI, FL, WPs. The VISTA, FL, WP would be added between the OMMNI, FL, WP and the PUNQU, FL WP. The WIXED, FL, WP (the current end point of the route) would be removed from T-336. A new end point for the route would be established at the VALKA, FL, Fix. The VALKA Fix is approximately 15 NM northwest of the WIXED WP. As amended, T-336 would extend between the TROYR, FL, WP, and the VALKA, FL, Fix.

T-337: T-337 currently extends between the SWENY, FL, WP and the WEZER, FL, WP. T-337 no longer provides the most efficient route into or out of southwest FL, therefore, the FAA proposes to remove the entire route.

T-339: T-339 currently extends between the KARTR, FL, Fix and the ODDEL, FL, Fix. This change would remove the KARTR Fix from the route. The start point would be moved approximately 25 NM to the southeast of the KARTR Fix to the existing CARNU, FL, Fix. From the CARNU Fix, T-339 would proceed to the DEEDS, FL, Fix, and then proceed to the end point at the ODDEL, FL, Fix as currently charted.

T-341: T-341 currently extends between the MEAGN, FL, WP, and the MARQO, FL WP. The FAA proposes to insert additional WPs along the route as follows. The YELLZ, FL, WP would be inserted between the CUSEK, FL, WP and the WEZER, FL, WP. The DULFN, FL, OMMNI, FL, and WHOOU, FL WPs would be added between the VARSE, FL, and the MARQO, FL, WPs.

T-343: T-343 currently extends between the WORPP, FL, Fix, and the INDIA, FL, Fix. The WORPP Fix would be removed from the route and the COOFS, FL, Fix would become the new start point for the route. The COOFS Fix is approximately 2 NM southwest of the WORPP Fix.

T-345: T-345 currently extends between the MARKT, FL WP, and the DEARY, FL, Fix. The only proposed change to the route is removing the DEARY, FL, Fix as the end point and substituting the VALKA, FL, Fix as the new end point. This would realign the route between the LLNCH, FL, Fix and the VALKA, FL, Fix to the east of its current track.

T-347: T-347 currently extends between the CLEFF, FL, WP, and the SEBAG, FL, Fix. This action proposes to move the start point from the CLEFF, FL, WP southward to the SHANC, FL, Fix. This would extend T-347 southward by approximately 50 NM increasing the availability of RNAV routing. In addition, the ODDEL, FL, Fix would be added between the BAIRN, FL, Fix and the SABOT, FL, Fix. As amended, T-347 would extend between the SHANC, FL, Fix and the SEBAG, FL, Fix.

T-349: T-349 currently extends between the VARSE, FL, WP, and the TROYR, FL, WP. The only proposed change to this route is the addition of the MILOW, FL, WP, and the MURDE, FL, WP between the VARSE, FL, WP and the TROYR, FL, WP. The alignment of T-349 would not be affected by this change.

T-353: T-353 currently extends between the FEBRO, FL, WP and the ASTOR, FL, Fix.

This action would remove the ASTOR, FL, Fix from the route and establish a new end point for the route at the STARY, GA, Fix (located 18 NM northeast of the Brunswick, GA, (SSI) VORTAC. The COBOK, FL, Fix and the SUBER, FL, Fix would be added between the FOXAM, FL, WP, and the STARY, GA, Fix. This would result in the track of T-353 north of the FOXAM WP being shifted to the east of its current alignment. Additionally, moving the end point of the route from the ASTOR Fix to the STARY Fix would provide approximately 80 NM of additional RNAV routing to the NAS.

United States RNAV T-routes are published in paragraph 6011 of FAA Order JO 7400.11F, dated August 10, 2021, and effective September 15, 2021, which is incorporated by reference in 14 CFR 71.1. The RNAV routes listed in this document would be subsequently published in the Order.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 14 CFR 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-207 FOXAM, FL to WALEE, FL [Amended]
FOXAM, FL | WP | (Lat. 29°33′37.73″ N, long. 081°09′37.84″ W)
MMKAY, FL | WP | (Lat. 29°41′55.42″ N, long. 081°26′49.15″ W)
WLEE, FL | WP | (Lat. 29°41′36.05″ N, long. 082°14′07.07″ W)
* * * * * * *
T-208 SIROC, GA to SHA N, FL [Amended]
SIROC, GA | WP | (Lat. 31°03′02.32″ N, long. 081°26′45.89″ W)
SAHND, FL | WP | (Lat. 30°25′45.91″ N, long. 081°24′34.99″ W)
FOXAM, FL | WP | (Lat. 29°33′37.73″ N, long. 081°09′37.84″ W)
SUUGR, FL | WP | (Lat. 29°19′40.38″ N, long. 081°07′20.79″ W)
SMYRA, FL | FIX | (Lat. 29°00′19.48″ N, long. 080°59′34.51″ W)
OAKIE, FL | FIX | (Lat. 28°51′04.26″ N, long. 080°55′52.35″ W)
MALET, FL | FIX | (Lat. 28°41′29.90″ N, long. 080°52′04.30″ W)
TICCO, FL | FIX | (Lat. 28°31′00.50″ N, long. 080°47′52.80″ W)
INDIA, FL | FIX | (Lat. 28°26′04.19″ N, long. 080°45′55.25″ W)
DIMBY, FL | WP | (Lat. 28°04′52.54″ N, long. 080°37′37.61″ W)
VALKA, FL | FIX | (Lat. 27°55′06.06″ N, long. 080°34′17.17″ W)
SULTY, FL | WP | (Lat. 27°48′12.41″ N, long. 080°32′59.17″ W)
WIXED, FL | WP | (Lat. 27°41′24.86″ N, long. 080°29′56.56″ W)
CLEFF, FL | WP | (Lat. 27°00′03.31″ N, long. 080°32′38.27″ W)
DURRY, FL | WP | (Lat. 26°43′46.96″ N, long. 080°24′09.25″ W)
BOBOE, FL | WP | (Lat. 26°28′48.72″ N, long. 080°23′05.23″ W)
SHANC, FL | FIX | (Lat. 26°18′51.14″ N, long. 080°20′00.16″ W)
* * * * * * *
T-210 HADDE, FL to VARZE, FL [Amended]
HADDE, FL | FIX | (Lat. 30°31′54.46″ N, long. 083°13′50.21″ W)
MISSM, FL | WP | (Lat. 30°27′28.15″ N, long. 082°36′32.24″ W)
OHLEE, FL | WP | (Lat. 30°16′06.04″ N, long. 082°06′32.53″ W)
MMKAY, FL | WP | (Lat. 29°41′55.42″ N, long. 081°26′49.15″ W)
MRUTT, FL | WP | (Lat. 29°12′12.40″ N, long. 081°23′55.50″ W)
GUANO, FL | FIX | (Lat. 29°05′58.73″ N, long. 081°23′18.93″ W)
KIZER, FL | FIX | (Lat. 28°55′26.00″ N, long. 081°22′17.83″ W)
EMSEE, FL | WP | (Lat. 28°50′43.72″ N, long. 081°32′47.03″ W)
DAIYL, FL | WP | (Lat. 28°49′10.74″ N, long. 081°41′29.68″ W)
AKOJO, FL | WP | (Lat. 28°45′44.01″ N, long. 081°43′31.54″ W)
PUNQU, FL | WP | (Lat. 28°34′33.65″ N, long. 081°49′22.43″ W)
VARZE, FL | WP | (Lat. 28°16′25.85″ N, long. 082°01′44.51″ W)
* * * * * * *
T-336 TROYR, FL to VALKA, FL [Amended]
TROYR, FL | WP | (Lat. 29°34′20.92″ N, long. 083°01′52.68″ W)
FUTSY, FL | WP | (Lat. 29°06′46.70″ N, long. 082°28′11.29″ W)
OMMNI, FL | WP | (Lat. 28°51′29.29″ N, long. 082°09′41.75″ W)
VIZTA, FL | WP | (Lat. 28°45′18.38″ N, long. 082°02′15.09″ W)
PUNQU, FL | WP | (Lat. 28°34′33.65″ N, long. 081°49′22.43″ W)
YOJIX, FL | FIX | (Lat. 28°02′44.04″ N, long. 081°33′45.34″ W)
YONMA, FL | FIX | (Lat. 28°03′55.68″ N, long. 081°24′31.18″ W)
ODDEL, FL | FIX | (Lat. 28°05′45.51″ N, long. 081°10′10.24″ W)
DEARY, FL | FIX | (Lat. 28°06′02.53″ N, long. 080°54′51.40″ W)
VALKA, FL | FIX | (Lat. 27°55′06.06″ N, long. 080°34′17.17″ W)
* * * * * * *
T-337 SWENY, FL to WEZER, FL [Removed]
* * * * * * *
T-339 CARNU, FL to ODDEL, FL [Amended]
CARNU, FL | FIX | (Lat. 25°08′18.13″ N, long. 081°19′32.12″ W)
DEEDS, FL | FIX | (Lat. 25°58′40.31″ N, long. 081°13′59.60″ W)
SAWGS, FL | FIX | (Lat. 26°10′37.07″ N, long. 081°05′59.93″ W)
ZAGPO, FL | WP | (Lat. 26°23′47.41″ N, long. 080°57′25.83″ W)
DIDDY, FL | FIX | (Lat. 27°18′38.15″ N, long. 080°52′55.92″ W)
ODDEL, FL | FIX | (Lat. 28°05′45.51″ N, long. 081°10′10.24″ W)
* * * * * * *
T-341 MEAGN FL to MARQO, FL [Amended]
MEAGN FL | WP | (Lat. 26°14′17.20″ N, long. 080°47′23.64″ W)
ZAGPO, FL | WP | (Lat. 26°23′47.41″ N, long. 080°57′25.83″ W)
CUSEK, FL | WP | (Lat. 26°51′38.79″ N, long. 081°23′17.37″ W)
YELLZ, FL | WP | (Lat. 27°51′36.18″ N, long. 081°56′34.16″ W)
WEZER, FL | WP | (Lat. 28°02′26.59″ N, long. 082°02′39.60″ W)
VARZE, FL | WP | (Lat. 28°16′25.85″ N, long. 082°01′44.51″ W)
DULFN FL | WP | (Lat. 28°37′02.05″ N, long. 082°06′24.33″ W)
OMMNI, FL | WP | (Lat. 28°51′29.29″ N, long. 082°09′41.75″ W)
WHOOU, FL | WP | (Lat. 29°51′25.91″ N, long. 082°23′30.65″ W)
MARQO, FL | WP | (Lat. 30°30′53.57″ N, long. 082°32′45.62″ W)
* * * * * * *
T-343 COOFS, FL to INDIA, FL [Amended]
COOFS, FL | FIX | (Lat. 25°52′18.17″ N, long. 081°00′37.52″ W)
CUSEK, FL | WP | (Lat. 26°51′38.79″ N, long. 081°23′17.37″ W)
FEBRO, FL | WP | (Lat. 27°37′02.08″ N, long. 081°47′07.68″ W)
TAHRS, FL | WP | (Lat. 27°52′12.96″ N, long. 081°33′55.12″ W)
YOJIX, FL | FIX | (Lat. 28°02′44.04″ N, long. 081°33′45.34″ W)
YONMA, FL | FIX | (Lat. 28°03′55.68″ N, long. 081°24′31.18″ W)
ODDEL, FL | FIX | (Lat. 28°05′45.51″ N, long. 081°10′10.24″ W)
DEARY, FL | FIX | (Lat. 28°06′02.53″ N, long. 080°54′51.40″ W)
INDIA, FL | FIX | (Lat. 28°26′04.19″ N, long. 080°45′55.25″ W)
* * * * * * *
T-345 MARKT, FL to VALKA, FL [Amended]
MARKT, FL | WP | (Lat. 26°22′53.63″ N, long. 080°34′41.82″ W)
AIRBT, FL | WP | (Lat. 26°46′51.62″ N, long. 080°42′21.85″ W)
DOWDI, FL | WP | (Lat. 27°07′16.35″ N, long. 080°42′02.47″ W)
LLNCH, FL | FIX | (Lat. 27°26′07.67″ N, long. 080°41′44.46″ W)
VALKA, FL | FIX | (Lat. 27°55′06.06″ N, long. 080°34′17.17″ W)
* * * * * * *
T-347 SHANC, FL to SEBAG, FL [Amended]
SHANC, FL | FIX | (Lat. 26°18′51.14″ N, long. 080°20′00.16″ W)
BOBOE, FL | WP | (Lat. 26°28′48.72″ N, long. 080°23′05.23″ W)
DURRY, FL | WP | (Lat. 26°43′46.96″ N, long. 080°24′09.25″ W)
CLEFF, FL | WP | (Lat. 27°00′03.31″ N, long. 080°32′38.27″ W)
BAIRN FL | FIX | (Lat. 27°56′52.37″ N, long. 081°06′54.35″ W)
ODDEL, FL | FIX | (Lat. 28°05′45.51″ N, long. 081°10′10.24″ W)
SABOT, FL | FIX | (Lat. 28°15′05.10″ N, long. 081°13′37.16″ W)
CROPY, FL | FIX | (Lat. 28°47′32.71″ N, long. 081°21′35.38″ W)
KIZER, FL | FIX | (Lat. 28°55′26.00″ N, long. 081°22′17.83″ W)
GUANO, FL | FIX | (Lat. 29°05′58.73″ N, long. 081°23′18.93″ W)
MRUTT, FL | WP | (Lat. 29°12′12.40″ N, long. 081°23′55.50″ W)
FOXAM, FL | WP | (Lat. 29°33′37.73″ N, long. 081°09′37.84″ W)
SEBAG, FL | FIX | (Lat. 29°49′04.24″ N, long. 081°12′34.72″ W)
* * * * * * *
T-349 VARZE, FL to TROYR, FL [Amended]
VARZE, FL | WP | (Lat. 28°16′25.85″ N, long. 082°01′44.51″ W)
MILOW FL | WP | (Lat. 28°38′02.43″ N, long. 082°18′14.27″ W)
MURDE, FL | WP | (Lat. 29°01′30.64″ N, long. 082°36′18.52″ W)
TROYR, FL | WP | (Lat. 29°34′20.92″ N, long. 083°01′52.68″ W)
* * * * * * *
T-353 FEBRO, FL to STARY, GA [Amended]
FEBRO, FL | WP | (Lat. 27°37′02.08″ N, long. 081°47′07.68″ W)
MOANS, FL | FIX | (Lat. 27°54′49.97″ N, long. 081°44′54.89″ W)
PUNQU, FL | WP | (Lat. 28°34′33.65″ N, long. 081°49′22.43″ W)
AKOJO, FL | WP | (Lat. 28°45′44.01″ N, long. 081°43′31.54″ W)
DAIYL, FL | WP | (Lat. 28°49′10.74″ N, long. 081°41′29.68″ W)
EMSEE, FL | WP | (Lat. 28°50′43.72″ N, long. 081°32′47.03″ W)
KIZER, FL | FIX | (Lat. 28°55′26.00″ N, long. 081°22′17.83″ W)
GUANO, FL | FIX | (Lat. 29°05′58.73″ N, long. 081°23′18.93″ W)
MRUTT, FL | WP | (Lat. 29°12′12.40″ N, long. 081°23′55.50″ W)
FOXAM, FL | WP | (Lat. 29°33′37.73″ N, long. 081°09′37.84″ W)
COBOK, FL | FIX | (Lat. 29°48′30.53″ N, long. 081°06′45.71″ W)
SUBER, FL | FIX | (Lat. 30°27′24.49″ N, long. 081°06′45.46″ W)
STARY, GA | FIX | (Lat. 31°12′04.70″ N, long. 081°08′40.48″ W)

* * * * *

Issued in Washington, DC, on October 29, 2021.
Michael R. Beckles,
Acting Manager, Rules and Regulations Group.

[FR Doc. 2021-24191 Filed 11-5-21; 8:45 am]

BILLING CODE 4910-13-P